DEPARTMENT OF TRANSPORTATION

[Docket No: OST-2021-0038]

Agency Request for Emergency Approval of an Information Collection of Information Associated With the Aviation Manufacturing Jobs Protection (AMJP) Program

AGENCY: U.S. Department of Transportation.

ACTION: Notice and request for comments.

SUMMARY: In compliance with the Paperwork Reduction Act of 1995, the Department of Transportation (DOT) provides notice that it will submit an information collection request (ICR) to the Office of Management and Budget (OMB) for emergency approval of a proposed information collection. DOT requests that OMB authorize the collection of information on or before May 15, 2021, for 180 days after the date of approval by OMB. Upon receiving the requested six-month emergency approval by OMB, DOT will follow the normal PRA procedures to obtain extended approval for this proposed information collection. The purpose of this collection is to enable eligible business entities to apply for payroll assistance under the “Aviation Manufacturing Jobs Protection” (AMJP) program, established by the “American Rescue Plan Act of 2021” (ARPA), which was enacted on March 11, 2021. DOT is requesting emergency approval due to the urgency of making the associated funds available to business entities that meet the eligibility requirements under the law. The continued viability of these business entities is crucial to supporting the aviation industry and economic recovery in the United States. Because ARPA requires DOT to reduce funding on a pro rata basis if eligible requests exceed available funds, DOT must identify the full universe of eligible businesses and the magnitude of their funding requests before issuing the first agreement. The statutory requirements of the AJMP also establish a strict six-month timeframe during which DOT must enter into payroll support agreements with eligible businesses.

DATES: Comments should be submitted as soon as possible upon publication of this notice in the Federal Register.

ADDRESSES: Comments and questions should be directed to the Office of Information and Regulatory Affairs (OIRA), Attn: OST OMB Desk Officer, 725 17th Street NW, Washington, DC 20503. Comments and questions about the ICR identified below may be transmitted electronically to OIRA at oira_submissions@omb.eop.gov.

FOR FURTHER INFORMATION CONTACT: Information related to this ICR, including applicable supporting documentation may be obtained by contacting Alexus Jenkins-Reid in the Office of the Secretary of Transportation, 1200 New Jersey Avenue SE, Washington, DC 20590, via telephone at (202) 366-4594, or via email at AMJP@dot.gov.

SUPPLEMENTARY INFORMATION: The Paperwork Reduction Act of 1995 (44 U.S.C. chapter 35; as amended) and 5 CFR part 1320 require each Federal agency to obtain OMB approval to initiate an information collection activity. DOT is seeking OMB approval for the following DOT information collection activity:

OMB Control Number: 2106-NEW.

Title: Aviation Manufacturing Jobs Protection (AMJP) program.

Form Numbers: New collection.

Type of Review: Emergency approval of information collection.

Expected Number of Respondents: 4,900.

Frequency: One-time application, to be followed by disbursement requests and closeout.

Estimated Average Burden per Response: 28 hours (initial application, 12 hours; monthly disbursement request, 2 hours each for 6 months; and closeout documentation, 4 hours).

Estimated Total Annual Burden: 137,200.

Abstract: On March 11, 2021, the “American Rescue Plan Act of 2021” (ARPA), Public Law (Pub. L.) 117-2, was enacted. Sections 7201 and 7202 establish the “Aviation Manufacturing Jobs Protection” (AMJP) program. The stated purpose of the program is “to provide public contributions to supplement compensation of an eligible employee group” (which is defined in the statute), by entering into agreements with qualifying business entities to pay up to half of the payroll costs for that group of employees for up to six months, in return for several commitments, including a commitment that the company will not involuntarily furlough or lay off employees within that group. Individual employees (including contract employees) are not eligible to apply for assistance under this program.

Application for assistance under the AMJP is voluntary. No business is required to apply. To be eligible, however, businesses must meet all the requirements set forth in the law. Therefore, DOT must collect certain information from applicants to determine eligibility. DOT must also verify the accuracy of specific payment requests from approved applicants, in accordance with other laws and regulations governing Federal financial assistance programs, including (but not limited to) the Anti-Deficiency Act, the Federal Funding Accountability and Transparency Act (FFATA), the Payment Integrity Information Act of 2019, and 2 CFR part 200, among others.

The ARPA requires DOT to reduce funding on a pro rata basis if eligible requests exceed available funds. Therefore, DOT will conduct a single-round, expedited application process to identify all eligible requests before beginning the award process.

Accordingly, DOT is developing a process and system that will enable businesses to apply for financial assistance under the AMJP. DOT anticipates using an online, web-based system to collect the following information:

• Legal name of the applicant (i.e., the legal name of the business entity), as well as any other identities under which the applicant may be doing business.

• Address, telephone, and email contact information for the applicant.

• Legal authority under which the applicant is established.

• Name and title of the authorized representative of the applicant (who will attest to the required certifications).

• DOT may also require the identity of external parties involved in preparation of the application, including outside accountants, attorneys, or auditors who may be assisting the business entity that is applying for assistance under this program.

• The specific statutory criteria that the applicant meets for eligibility under this program. The statute defines eligible applicants to include a corporation, firm, or other business entity that “(i) actively manufactures an aircraft, aircraft engine, propeller, or a component, part, or systems of an aircraft or aircraft engine under a Federal Aviation Administration production approval; (ii) holds a certificate issued under part 145 of title 14, Code of Federal Regulations, for maintenance, repair, and overhaul of aircraft, aircraft engines, components, or propellers; or (iii) operates a process certified to SAE AS9100 ¹ related to the design, development, or provision of an aviation product or service, including a part, component, or assembly.” Accordingly, DOT will require the applicant to identify which of these categories they meet, and how. DOT may also require applicants to provide supporting documentation, including reference numbers and copies of certificates or authorizations issued by the Federal Aviation Administration or by SAE.

¹ SAE refers to the Society of Automotive Engineers, whose membership includes aeronautical engineers. For information about SAE AS9100, see https://www.sae.org/standards/content/as9100/.

• Location where the applicant was legally established, created, or organized to do business. This information and supporting documentation will be required to demonstrate how the applicant meets the statutory requirement to be “established, created, or organized in the United States or under the laws of the United States.”

• Other identification numbers, including but not limited to the Employer/Taxpayer Identification Number (EIN/TIN), Data Universal Numbering System (DUNS) number, Unique Entity Identifier under 2 CFR part 25, etc. All applicants will be required to have pre-registered with the System for Award Management (SAM) at https://sam.gov/SAM/.

• Description of the applicant's business operations, in sufficient detail to demonstrate how the applicant meets the statutory requirement to have “significant operations in, and a majority of its employees engaged in aviation manufacturing activities and services, or maintenance, repair, and overhaul activities and services based in the United States.” This will include a listing of all business locations, and the number of employees (and the percentage of their time) engaged in aviation-related versus other business activities at each location, as of a specific date that DOT will identify in a subsequent program announcement.

• Details sufficient to demonstrate how the applicant meets the requirement to have “involuntarily furloughed or laid off at least 10 percent of its workforce in 2020 as compared to 2019 or has experienced at least a 15 percent decline in 2020 revenues as compared to 2019.” The applicant will be required to provide either aggregate numbers of personnel as of April 1, 2019 and April 1, 2020, or total operating revenue figures for the applicant's fiscal years ending 2019 and 2020.

• Certification that the applicant has not received a credit against applicable employment taxes under section 2301 of the CARES Act (26 U.S.C. 3111 note) for the immediately preceding calendar quarter ending before such agreement is entered into, or financial assistance under section 4113 of the CARES Act (15 U.S.C. 9073) (providing payroll support to air carriers and contractors), and is not currently expending financial assistance under the paycheck protection program established under section 7(a)(36) of the Small Business Act (15 U.S.C. 636(a)(36)), as of the date the employer submits an application under the AMJP. Although DOT may verify the accuracy of these certifications, including the possibility of a risk-based approach to verification, applicants are legally responsible for ensuring the accuracy of these certifications.

• Definition of the applicant's “eligible employee group,” as defined in the statute, identifying the specific job categories and numbers of personnel in each category.²

² The statutory definition of the “eligible employee group” is the portion of an employer's United States workforce that does not exceed 25 percent of the employer's total United States workforce as of April 1, 2020; contains only employees with a total compensation level of $200,000 or less per year; and is engaged in aviation manufacturing activities and services, or maintenance, repair, and overhaul activities and services.

• The actual aggregate total cost of compensation for the eligible employee group for the six-month period ending March 31, 2021. DOT requires this information to calculate the potentially eligible amount of financial assistance under the AMJP (subject to pro rata reduction if necessary due to availability of funds). DOT anticipates requiring a breakdown of the compensation costs (e.g., aggregate base salaries versus other major benefit categories, including but not limited to medical benefits paid by the employer, paid leave, insurance premiums paid by the employer, employer match on employee retirement contributions, etc.). Applicants will be required to provide supporting documentation in sufficient detail to substantiate the preceding aggregate costs, but specifically excluding any Personally Identifiable Information (PII) for any individual employees. This may include financial reports and redacted payroll reports, or such additional supporting documentation as DOT may require.

• Whether the applicant business entity is currently engaged in any legal proceeding that could jeopardize its ability to fulfill the legal commitments required in statute as conditions for receiving funds under the AMJP. Examples of such proceedings could include (but are not limited to) any process related to the United States Bankruptcy Code, potential merger or acquisition discussions, or current litigation against the applicant. The application system will request that applicants identify any such issues at a high level, but avoid including unnecessary details in the application.

• Whether the applicant is delinquent on any debt to any Federal agency, along with supporting details.

• Certification by the applicant that they can and will enter into a legal agreement with DOT, that will require the applicant to (1) provide the private contribution (which means the remainder of the total compensation costs associated with the eligible employee group that is not funded by assistance under the AMJP); and (2) not conduct any involuntary layoffs, furloughs, or reductions in pay rates or benefits for the eligible employee group during the term of the agreement with DOT.

• A sworn certification as to the complete and accurate nature of all information provided, including all supporting documentation, subject to civil or criminal penalties. The specific certification language will include: “I certify under penalty of perjury that the information and certifications provided in the application and its attachments are true and correct. WARNING: Anyone who knowingly submits a false claim or makes a false statement is subject to criminal and/or civil penalties, including confinement for up to 5 years, fines, and civil penalties. (18 U.S.C. 287, 1001; 31 U.S.C. 3729, 3802).”

• After DOT determines eligibility and enters into an agreement with the applicant (referred to hereafter as “the recipient”), DOT may also require the recipient to provide the actual aggregate total cost of compensation for the eligible employee group during the period of the agreement with DOT, if DOT determines it is necessary in order to review and approve actual disbursements pursuant to the agreement. Recipients will be required to provide supporting documentation in sufficient detail to substantiate the actual costs, specifically excluding any Personally Identifiable Information (PII) for any individual employees.

• Recipients will also be required to provide additional supporting information and certifications in support of disbursement requests.

Authority: The Paperwork Reduction Act of 1995; 44 U.S.C. Chapter 35, as amended; and the American Rescue Plan Act of 2021 (Pub. L. 117-2).

Signed in Washington, DC on April 7, 2021.
Brian Elliott Black,
Special Program Development Lead, U.S. Department of Transportation.

[FR Doc. 2021-07468 Filed 4-13-21; 8:45 am]

BILLING CODE 4910-9X-P